DEPARTMENT OF TRANSPORTATION

Federal Aviation Administration

14 CFR Part 71

[Docket No. FAA-2013-0731; Airspace Docket No. 13-ASO-18]

Establishment of Class E Airspace; Blairsville, GA.

AGENCY: Federal Aviation Administration (FAA), DOT.

ACTION: Final rule: correction

SUMMARY: This action corrects the effective date of a final rule, published in the Federal Register on April 2, 2014, establishing controlled airspace at Blairsville Airport, Blairsville, GA.

DATES: Effective 0901 UTC, The effective date of the final rule published on April 2, 2014 is corrected from May 27, 2014, to May 29, 2014. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On April 2, 2014, the FAA published a final rule in the Federal Register establishing Class E airspace at Blairsville Airport, Blairsville, GA (79 FR 18442). After publication, the FAA found that the effective date was incorrectly typed as May 27, 2014, instead of May 29, 2014. This action makes the correction.

Correction to Final Rule

Accordingly, pursuant to the authority delegated to me, the effective date listed under DATES heading on Docket No. FAA-2013-0731, establishing Class E airspace at Blairsville Airport, Blairsville, GA, as published in the Federal Register of April 2, 2014, (79 FR 18442), FR Doc. 2014-07292, is corrected as follows:

On page 18442, column 2, line 44, remove, “May 27”, and add in its place “May 29.”

Issued in College Park, Georgia, on May 15, 2015.
Myron A. Jenkins,
Manager, Operations Support Group, Eastern Service Center, Air Traffic Organization.

[FR Doc. 2014-11860 Filed 5-21-14; 8:45 am]

BILLING CODE 4910-13-P